DEPARTMENT OF TRANSPORTATION

Federal Railroad Administration

49 CFR Part 213

[Docket No. RST-94-3, Notice No. 2]

Policy on the Safety of Railroad Bridges

AGENCY: Federal Railroad Administration (FRA), Department of Transportation, (DOT).

ACTION: Final Statement of Agency Policy.

SUMMARY: FRA issues a final statement of policy for the safety of railroad bridges. FRA establishes suggested criteria for railroads to use to ensure the structural integrity of bridges that carry railroad tracks. This final statement of policy reflects minor changes following public comment on the interim statement of policy published April 27, 1995, at 60 FR 20654.

DATES: Effective Date: The final statement of policy is effective September 29, 2000.

FOR FURTHER INFORMATION CONTACT: Gordon A. Davids, P.E., Bridge Engineer, Office of Safety Assurance and Compliance, Federal Railroad Administration, 1120 Vermont Avenue, NW., Mail Stop 25, Washington, DC 20590, (Telephone: 202-493-6320), or Nancy Lummen Lewis, Trial Attorney, Office of Chief Counsel, Federal Railroad Administration, 1120 Vermont Avenue, NW., Mail Stop 10, Washington, DC 20590, (Telephone 202-493-6047).

SUPPLEMENTARY INFORMATION: On April 27, 1995, FRA issued an interim statement of policy on the safety of railroad bridges. Published in the Federal Register at 60 FR 20654, the interim statement included a request for comments to be submitted to FRA during a 60-day period following publication. The interim statement detailed the reasons which prompted FRA to adopt this policy, as well as the background information behind its adoption. The notice stated that FRA intended to incorporate the policy statement as an appendix to 49 CFR part 213, reflecting any changes warranted by comments submitted during the comment period. FRA's original intent was to publish the final statement of policy at the same time it issued a final rule to revise the Federal Track Safety Standards found at 49 CFR Part 213. However, because the final statement of policy addresses certain unique issues not shared by the final rule to revise the track standards, FRA decided to publish this final statement of policy separately.

Statutory Authority

The Secretary of Transportation has authority to “prescribe regulations and issue orders for every area of railroad safety.” 49 U.S.C. 20101. The Secretary has delegated his authority to FRA. 49 CFR 1.49(m).

Reasons for Adoption of the Bridge Safety Policy

The severity of a train accident is usually compounded when a bridge is involved, regardless of the cause of the accident. FRA must be able to deal effectively with any safety problems involving the structural integrity of railroad bridges. At the same time, FRA must assure that private and public resources are not diverted unnecessarily from railroad inspection and maintenance programs that are also critical to railroad safety.

At one extreme, FRA could respond to bridge safety issues only when accidents occur or when someone contacts the agency about particular concerns. However, such a reactive policy would inhibit FRA's ability to detect impending problems with railroad bridges. At the other extreme, FRA could regulate all aspects of railroad bridge management, including inspection, rating, construction and maintenance. The expense of such an action to the railroad industry and to the Federal government is not justified.

To promote bridge safety, this policy statement includes non-regulatory guidelines to inform railroad managers and all concerned about current good practices related to bridge inspection and management. The guidelines accommodate a wide variety of effective bridge inspection and management methods. Therefore, FRA does not expect that its policy will force railroads to change effective bridge management programs and thus unnecessarily divert resources needed for the functional work of bridge management.

Because FRA believes that a national bridge safety policy is most effective when it is administered consistently throughout the United States, the agency will, upon request, cooperate with states to the fullest extent feasible to resolve railroad bridge safety problems. This cooperation will extend to training of inspectors of state railroad safety agencies, joint investigations and evaluations of bridge conditions, and where necessary, invocation of FRA's enforcement authority.

FRA will revise the guidelines as necessary to accomplish the objectives of the bridge safety program. To that end, FRA will continue to monitor and evaluate the railroads' bridge inspection and management programs to guarantee that those responsible for the safety of bridges continue to meet their obligations. FRA will make its findings available to the public upon request, excluding any proprietary information received and identified as such. Should FRA find through its monitoring that widespread bridge structural problems have developed, it may use the information it has gathered to commence a rulemaking proceeding to further address railroad bridge safety.

Effect of this Statement of Policy

This statement of policy containing guidelines for the proper maintenance of bridge structures is meant to be advisory in nature; it does not have the force of regulations under which FRA ordinarily issues violations and assesses civil penalties.

Even without specific bridge safety regulations, FRA maintains authority to perform safety inspections of any railroad facility and to issue emergency orders under 49 U.S.C. 20104, 49 U.S.C. 20107, and 49 CFR part 209. This authority permits FRA, if necessary, to remove from service or otherwise impose conditions on any railroad operation which, in the judgment of the agency, poses an emergency situation involving a hazard of death or personal injury. For example, on February 12, 1996, FRA issued Emergency Order No. 19, which removed from service a railroad bridge on the Tonawanda Island Railroad near North Tonawanda, New York, after FRA found that the bridge posed an unacceptable risk to the safety of train operations. Likewise, FRA issued Emergency Order No. 22 on December 16, 1999, which removed from service a railroad bridge on the Oregon Pacific Railroad in Milwaukie, Oregon. The bridge in Oregon was satisfactorily repaired, and FRA lifted Emergency Order No. 22 on January 20, 2000.

This final statement of agency policy does not change FRA's statutory emergency order authority with respect to railroad bridge safety. Rather, the guidelines contained herein represent the general criteria against which FRA will evaluate each railroad's bridge inspection and management program.

Public Response to the Interim Policy

A 60-day comment period followed the publication of the Interim Statement of Policy, and FRA received comments from five parties. Those comments were considered in the development of this final policy and are addressed here.

The American Railway Engineering and Maintenance of Way Association (AREMA), in conveying its support of the policy and its associated guidelines, expressed a concern that the policy's reference to AREMA's Manual for Railway Engineering in Guideline 5 may lead some to believe that the specifications contained therein represent minimum safety standards. That interpretation was not intended by FRA, and Guideline 5 has been modified to reflect that concern.

The Association of American Railroads (AAR) and the Norfolk Southern Corporation expressed support for the policy, as well as support for AREMA's comments. The AAR also requested clarification of the provisions in Guideline 1 regarding the responsibility for the safety of bridges.

The Federal Track Safety Standards prescribe the track owner as the party responsible for proper maintenance of the tracks. It follows, therefore, that compliance with the track standards necessitates that the track owner also maintain any structure supporting the track, be it a bridge or an earth structure. Where a bridge owner is not the track owner, the bridge owner is responsible to the track owner for the integrity of the bridge. Likewise, the track owner is responsible to other railroads operating over its track for the integrity of both the track and the bridges which support it.

FRA does not consider it necessary that one railroad operating with trackage rights over another should duplicate the bridge management work of the track owner. An operator under trackage rights should be able to accept a general assurance that the owner is maintaining the integrity of its bridges. However, effective communication of load restrictions between the owner and other operating railroads is essential to prevent overloading bridges.

The Brotherhood of Maintenance of Way Employees (BMWE) had earlier petitioned FRA to issue regulations governing bridge safety, including a requirement for displacement and damage detectors. The BMWE cited the specifications of the American Association of State Highway and Transportation Officials (AASHTO) as examples of standards that govern the design, construction, inspection and maintenance of highway bridges. The BMWE recommended that the same type of standards should be applied to railroad bridges.

AASHTO specifications generally have been adopted by highway bridge owners, as the bridge chapters in the AREMA Manual for Railway Engineering have been adopted by railroad bridge owners. In fact, railroads frequently use AASHTO specifications for highway bridges which they own, and highway agencies use the AREMA manual in their projects involving railroad bridges. AASHTO specifications are not regulations, unless they have been adopted as such by a government agency that actually owns and maintains highway bridges. FRA believes that this policy statement, with its reference to the AREMA manual, effectively points interested parties toward standards that are the railroad equivalent of the AASHTO specifications and, in so doing, accomplishes the objective of BMWE's recommendation.

The BMWE also commented that it agreed with FRA's plan to make this policy a part of the Federal Track Safety Standards contained in 49 CFR part 213.

Comments From NYSDOT

The Department of Transportation of the State of New York (NYSDOT) submitted several comments generally calling for more stringent regulations than the guidelines in the present policy. NYSDOT questioned the reliability of the results of the 1992-1993 FRA bridge survey because the FRA track inspectors who conducted the survey are not licensed structural engineers. FRA personnel did not themselves inspect or evaluate the bridges included in the survey. Rather, they observed the railroads' inspectors and engineers conducting the inspections and making the evaluations. They reported their findings in the manner which FRA trained them to use for this project, and an FRA professional bridge engineer, who is licensed and registered in the State of New York, analyzed the data. The FRA track inspectors did not engage in formulating any engineering decisions.

In response to FRA's statement that its bridge survey showed that there have been no fatalities caused by the structural failure of a railroad bridge, NYSDOT stated that it had information concerning a fatality that occurred when a railroad bridge failed in 1976. In a review of the accident records for 1976, FRA found one instance in which a locomotive engineer in Iowa was fatally injured when a railroad trestle was washed out in a flood. The accident was reported to FRA as having been caused by a flood or washout, and not a bridge failure. Upon review of the record, FRA finds that the accident was caused by damage to the bridge by outside sources and not by the structural failure of the bridge.

NYSDOT also responded to FRA's report that 11 of 19 train accidents on bridges occurring since 1983 were caused by external damage to the bridges from wash-outs or from collisions of marine vessels. According to NYSDOT, these accidents should be counted as accidents caused by bridge failure. FRA disagrees. FRA believes that it could perform a more precise analysis of the data by distinguishing between accidents caused by external damage to bridges and accidents resulting from failure of bridges to withstand normal service loads. The Federal Track Safety Standards already address floods and wash-outs by requiring railroads to properly maintain drainage facilities under and adjacent to roadbeds, including bridges. See 49 CFR 213.33. The Track Safety Standards also require in 49 CFR 213.239 that railroads perform special inspections following floods, fire, severe storms, or other occurrences that might have damaged track structure. FRA considers any damage to the track or its supporting structures, including bridges, that renders the track incapable of safely carrying its traffic loads, to come under the provisions of this section of the Track Safety Standards.

NYSDOT commented that railroad bridges, many of which were designed to carry heavy steam locomotives, are now severely loaded by modern 100-ton capacity cars. FRA has found that the railroads understand the phenomenon of structural fatigue and its effect on the longevity of steel structures. Railroads have the advantage of controlling the loads they operate over their bridges, and in most cases, they can determine the loading history of a bridge with sufficient accuracy to permit a valid fatigue evaluation.

NYSDOT commented that FRA does not maintain quantitative data on the nation's railroad bridges, unlike highway agencies which keep detailed quantitative data on highway bridges. Highway agencies need to gather detailed information on those bridges because they are fully responsible for their construction, inspection, maintenance, repair, and safety. However, in the railroad industry, the railroads are responsible for the bridges they own or operate, and they maintain the information necessary for the fulfillment of that responsibility. FRA owns no bridges, and generally does not fund bridge maintenance or construction. The agency therefore does not have the need to expend resources to collect and maintain detailed quantitative data that would duplicate information held by the railroads themselves.

NYSDOT commented that FRA should issue regulations mandating certain requirements for bridge inspection programs. These requirements would include specifications for (1) Diving inspections at set periods, (2) levels of inspection for various types of bridges and bridge components, (3) qualifications and training of inspection personnel, and (4) historical information to be provided to bridge inspectors. FRA does not believe that such regulations are warranted. Rather, these points of concern should be addressed in the guidelines, with the manner of execution left to the determination of the engineer engaged by the bridge owner. FRA believes that specific inspection criteria are best determined on a bridge-by-bridge basis. FRA further believes that it can adequately address individual bridge problems as they arise by exercising its existing safety authority. An example is FRA Emergency Order No. 19 against the Tonawanda Island Railroad bridge in which NYSDOT assisted FRA in collecting information to address specific problems on one particular railroad bridge that was in very poor condition and under highly unusual circumstances. Another example is FRA Emergency Order No. 22 against the Oregon Pacific Railroad. Before issuing that emergency order, FRA, with the help of the Oregon Department of Transportation, gathered information about serious defects in the bridge structure and well as the inadequate repairs the railroad had already made to the bridge.

Differences Between Interim and Final Policies

In addition to the editorial modifications described under the section “Public Participation,” as well as other slight editorial modifications, FRA has added three references to earthquakes and seismic activity to reflect recent advances in railroad bridge engineering related to seismic design. This addition is intended to call attention to potential risks to railroad bridges posed by seismic activity in the United States. FRA also has clarified in paragraph (b) of Section 1, “Responsibility for safety of railroad bridges,” who is responsible for railroad bridge safety when the owner of the track on a bridge is not the owner of the bridge itself.

Regulatory Impact

Executive Order 12866 and DOT Regulatory Policies

This statement of policy has been evaluated in accordance with existing regulatory policies. It is considered to be a nonsignificant regulatory action under E.O. 12866 and is a nonsignificant rule under 5(a)(4) of DOT Regulatory Policies and Procedures (44 FR 11034, February 26, 1979) because it is advisory only and does not carry with it the force of law or regulation. For nonsignificant rules, the DOT Regulatory Policies and Procedures ordinarily require an economic evaluation to be placed in the public docket. This evaluation should include an analysis of the economic consequences of the rule, including (if possible) an estimation of the cost and benefits of the rule to the private sector, consumers, and all levels of government. However, such an evaluation is not required if the expected impact of a rule is deemed minimal. Because this statement of policy offers only guidelines to be followed and does not mandate any actions or establish any record keeping requirements, the need for further cost/benefit analysis is not indicated.

Regulatory Flexibility Act

Because this statement of policy is advisory in nature and does not carry with it the force of law or regulation, analysis of it under the Regulatory Flexibility Act (5 U.S.C. 601, et seq.) is not required. Nevertheless, in reviewing the economic impact of this statement of policy, FRA concluded that it will not have any measurable impact on small entities. There are no direct or indirect economic impacts for small units of government, businesses, or other organizations. Therefore, it is certified that this policy statement will not have a significant economic impact on a substantial number of small entities under the provisions of the Regulatory Flexibility Act.

Small Business Regulatory Enforcement Fairness Act of 1996

Because an analysis under the Regulatory Flexibility Act is not required for the final statement of policy, FRA is likewise not required to issue a Small Entity Compliance Guide to summarize the requirements of this rule, pursuant to section 212 of the Small Business Regulatory Enforcement Fairness Act of 1996 (Pub. L. 104-121).

Paperwork Reduction Act

There are no information collection requirements contained in this statement of policy.

Environmental Impact

FRA has evaluated this statement of policy in accordance with its procedures for ensuring full consideration of the potential environmental impacts of FRA actions, as required by the National Environmental Policy Act (42 U.S.C. 4321 et seq.) and related directives. This notice meets the criteria that establish this as a non-major action for environmental purposes.

Federalism Implications

FRA undertook the survey of railroad bridges because of a perception that the nation's railroad bridges are aging and may pose a significant hazard to public safety. Following the survey, FRA concluded that the vast majority of such bridges across the nation are adequately maintained and do not present a threat to safety. This conclusion is not based upon an assessment of railroad bridge safety for any particular location, nor does it imply that every railroad bridge in every state meets the minimum guidelines. Therefore, it is FRA's intent that this statement of policy should not preclude any state from addressing safety issues concerning railroad bridges within that state.

In stating its intent that this policy statement should not preempt regulatory actions by states, FRA is adhering to the principles of Executive Order 13132 issued on August 4, 1999, which directs Federal agencies to exercise great care in establishing policies that have federalism implications. See 64 FR 43,255. Section 3(a) of the Executive Order requires Federal agencies to “closely examine the constitutional and statutory authority supporting any action that would limit the policymaking discretion of States and * * * carefully assess the necessity for such action.” In Section 3(b), the Executive Order continues, “National action limiting the policymaking discretion of the States shall be taken only where there is constitutional and statutory authority for the action and the national activity is appropriate in light of the presence of a problem of national significance.” Of course, FRA has the constitutional and statutory authority to issue guidelines addressing railroad bridge safety, but the agency has not found a “problem of national significance” of such a dimension to warrant limiting state policymaking discretion in addressing the same subject matter. In light of this conclusion, a Federalism Assessment pursuant to Executive Order 13132 is not required. Nevertheless, FRA has prepared a short Federalism analysis which resides in the docket reserved for this proceeding.

For railroad operations to be conducted safely, the structural integrity of bridges that carry railroad track must be properly maintained. FRA's research reveals that the railroad industry does not have a systemic bridge safety problem. For that reason, FRA adopts a safety policy, rather than regulations, to effect and maintain railroad bridge safety.

List of Subjects in 49 CFR Part 213

Penalties, Railroad Safety, Railroads

Amend Part 213 to read as follows:

PART 213—TRACK SAFETY STANDARDS

1. The authority citation for part 213 is revised to read as follows:

Authority: 49 U.S.C. 20102-20114 and 20142; 28 U.S.C. 2461; and 49 CFR1.49(m).

2. A new Appendix C is added to part 213 to read as follows:

Appendix C to Part 213—Statement of Agency Policy on the Safety of Railroad Bridges

1. The structural integrity of bridges that carry railroad tracks is important to the safety of railroad employees and to the public. The responsibility for the safety of railroad bridges rests with the owner of the track carried by the bridge, together with any other party to whom that responsibility has been assigned by the track owner.

2. The capacity of a bridge to safely support its traffic can be determined only by intelligent application of engineering principles and the laws of physics. Bridge owners should use, as FRA does, those principles to assess the integrity of railroad bridges.

3. The long term ability of a structure to perform its function is an economic issue beyond the intent of this policy. In assessing a bridge's structural condition, FRA focuses on the present safety of the structure, rather than its appearance or long term usefulness.

4. FRA inspectors conduct regular evaluations of railroad bridge inspection and management practices. The objective of these evaluations is to document the practices of the evaluated railroad and to disclose any program weaknesses that could affect the safety of the public or railroad employees. When the evaluation discloses problems, FRA seeks a cooperative resolution. If safety is jeopardized by a bridge owner's failure to resolve a bridge problem, FRA will use available legal means, including issuance of emergency orders, to protect the safety of railroad employees and the public.

5. This policy statement addresses the integrity of bridges that carry railroad tracks. It does not address the integrity of other types of structures on railroad property (i.e., tunnels or bridges carrying highways) or other features over railroads (i.e., highway overpasses).

6. The guidelines published in this statement are advisory, rather than regulatory, in nature. They indicate those elements FRA deems essential to successful bridge management programs. FRA uses the guidelines when evaluating bridge inspection and management practices.

Guidelines

1. Responsibility for safety of railroad bridges

(a) Track owner. The owner of the track on a bridge, or another person assuming responsibility for the compliance of that track with this Part under provisions of § 213.5, is responsible for ensuring that the bridge is capable of safely carrying all railroad traffic operated on that track, and for specifying the maximum loads that may be operated over the bridge.

(b) Divided ownership. Where the owner of the track on a bridge does not own the bridge, the track owner should ensure that the bridge owner is following a program that will maintain the integrity of the bridge. The track owner either should participate in the inspection of the bridge, or should obtain and review reports of inspections performed by the bridge owner. The track owner should maintain current information regarding loads that may be operated over the bridge, either from its own engineering evaluations or as provided by a competent engineer representing the bridge owner. Information on permissible loads may be communicated by the bridge owner either in terms of specific car and locomotive configurations and weights, or as values representing a standard railroad bridge rating reference system. The most common standard bridge rating reference system incorporated in the Manual for Railway Engineering of the American Railway Engineering and Maintenance of Way Association is the dimensional and proportional load configuration devised by Theodore Cooper. Other reference systems may be used where convenient, provided their effects can be defined in terms of shear, bending and pier reactions as necessary for a comprehensive evaluation and statement of the capacity of a bridge.

(c) Other railroads. The owner of the track on a bridge should advise other railroads operating on that track of the maximum loads permitted on the bridge stated in terms of car and locomotive configurations and weights. No railroad should operate a load which exceeds those limits without specific authority from, and in accordance with restrictions placed by, the track owner.

2. Capacity of Railroad Bridges

(a) Determination. The safe capacity of bridges should be determined by competent engineers using accepted principles of structural design and analysis.

(b) Analysis. Proper analysis of a bridge means knowledge of the actual dimensions, materials and properties of the structural members of the bridge, their condition, and the stresses imposed in those members by the service loads.

(c) Rating. The factors which were used for the design of a bridge can generally be used to determine and rate the load capacity of a bridge provided:

(i) The condition of the bridge has not changed significantly, and

(ii) The stresses resulting from the service loads can be correlated to the stresses for which the bridge was designed or rated.

3. Railroad Bridge Loads

(a) Control of loads. The operating instructions for each railroad operating over bridges should include provisions to restrict the movement of cars and locomotives whose weight or configuration exceed the nominal capacity of the bridges.

(b) Authority for exceptions. Equipment exceeding the nominal weight restriction on a bridge should be operated only under conditions determined by a competent engineer who has properly analyzed the stresses resulting from the proposed loads.

(c) Operating conditions. Operating conditions for exceptional loads may include speed restrictions, restriction of traffic from adjacent multiple tracks, and weight limitations on adjacent cars in the same train.

4. Railroad Bridge Records

(a) The organization responsible for the safety of a bridge should keep design, construction, maintenance and repair records readily accessible to permit the determination of safe loads. Having design or rating drawings and calculations that conform to the actual structure greatly simplifies the process of making accurate determinations of safe bridge loads.

(b) Organizations acquiring railroad property should obtain original or usable copies of all bridge records and drawings, and protect or maintain knowledge of the location of the original records.

5. Specifications for Design and Rating of Railroad Bridges

(a) The recommended specifications for the design and rating of bridges are those found in the Manual for Railway Engineering published by the American Railway Engineering and Maintenance-of-way Association. These specifications incorporate recognized principles of structural design and analysis to provide for the safe and economic utilization of railroad bridges during their expected useful lives. These specifications are continually reviewed and revised by committees of competent engineers. Other specifications for design and rating, however, have been successfully used by some railroads and may continue to be suitable.

(b) A bridge can be rated for capacity according to current specifications regardless of the specification to which it was originally designed.

6. Periodic Inspections of Railroad Bridges

(a) Periodic bridge inspections by competent inspectors are necessary to determine whether a structure conforms to its design or rating condition and, if not, the degree of nonconformity.

(b) The prevailing practice throughout the railroad industry is to inspect railroad bridges at least annually. Inspections at more frequent intervals may be indicated by the nature or condition of a structure or intensive traffic levels.

7. Underwater Inspections of Railroad Bridges

(a) Inspections of bridges should include measuring and recording the condition of substructure support at locations subject to erosion from moving water.

(b) Stream beds often are not visible to the inspector. Indirect measurements by sounding, probing, or any other appropriate means are necessary in those cases. A series of records of those readings will provide the best information in the event unexpected changes suddenly occur. Where such indirect measurements do not provide the necessary assurance of foundation integrity, diving inspections should be performed as prescribed by a competent engineer.

8. Seismic Considerations

(a) Owners of bridges should be aware of the risks posed by earthquakes in the areas in which their bridges are located. Precautions should be taken to protect the safety of trains and the public following an earthquake.

(b) Contingency plans for seismic events should be prepared in advance, taking into account the potential for seismic activity in an area.

(c) The predicted attenuation of ground motion varies considerably within the United States. Local ground motion attenuation values and the magnitude of an earthquake both influence the extent of the area affected by an earthquake. Regions with low frequency of seismic events produce less data from which to predict attenuation factors. That uncertainty should be considered when designating the area in which precautions should be taken following the first notice of an earthquake. In fact, earthquakes in such regions might propagate their effects over much wider areas than earthquakes of the same magnitude occurring in regions with frequent seismic activity.

9. Special Inspections of Railroad Bridges

(a) A special bridge inspection should be performed after an occurrence that might have reduced the capacity of the bridge, such as a flood, an earthquake, a derailment, or an unusual impact.

(b) When a railroad learns that a bridge might have suffered damage through an unusual occurrence, it should restrict train operations over the bridge until the bridge is inspected and evaluated.

10. Railroad Bridge Inspection Records

(a) Bridge inspections should be recorded. Records should identify the structure inspected, the date of the inspection, the name of the inspector, the components inspected, and their condition.

(b) Information from bridge inspection reports should be incorporated into a bridge management program to ensure that exceptions on the reports are corrected or accounted for. A series of inspection reports prepared over time should be maintained so as to provide a valuable record of trends and rates of degradation of bridge components. The reports should be structured to promote comprehensive inspections and effective communication between an inspector and an engineer who performs an analysis of a bridge.

(c) An inspection report should be comprehensible to a competent person without interpretation by the reporting inspector.

11. Railroad Bridge Inspectors and Engineers

(a) Bridge inspections should be performed by technicians whose training and experience enable them to detect and record indications of distress on a bridge. Inspectors should provide accurate measurements and other information about the condition of the bridge in enough detail so that an engineer can make a proper evaluation of the safety of the bridge.

(b) Accurate information about the condition of a bridge should be evaluated by an engineer who is competent to determine the capacity of the bridge. The inspector and the evaluator often are not the same individual. The quality of the bridge evaluation depends on the quality of the communication between them.

12. Scheduling Inspections

(a) A bridge management program should include a means to ensure that each bridge under the program is inspected at the frequency prescribed for that bridge by a competent engineer.

(b) Bridge inspections should be scheduled from an accurate bridge inventory list that includes the due date of the next inspection.

13. Special Considerations for Railroad Bridges

Railroad bridges differ from other types of bridges in the types of loads they carry, in their modes of failure and indications of distress, and in their construction details and components. Proper inspection and analysis of railroad bridges require familiarity with the loads, details and indications of distress that are unique to this class of structure. Particular care should be taken that modifications to railroad bridges, including retrofits for protection against the effects of earthquakes, are suitable for the structure to which they are to be applied. Modifications should not adversely affect the serviceability of the bridge nor its accessibility for periodic or special inspection.

Issued in Washington, DC on August 22, 2000.
Jolene M. Molitoris,
Administrator.

[FR Doc. 00-22152 Filed 8-29-00; 8:45 am]

BILLING CODE 4910-06-P